DEPARTMENT OF ENERGY

Federal Energy Regulatory Commission

Combined Notice of Filings

Take notice that the Commission has received the following Natural Gas Pipeline Rate and Refund Report filings:

Filings Instituting Proceedings

Docket Numbers: RP12-240-000.

Applicants: Gulf South Pipeline Company, LP.

Description: Filing to Remove Expired Agreements from Tariff to be effective 12/15/2011.

Filed Date: 12/15/11.

Accession Number: 20111215-5072.

Comments Due: 5 p.m. ET 12/27/11.

Docket Numbers: RP12-241-000.

Applicants: NGO Transmission, Inc.

Description: NGO Transmission—Negotiated Rate Filing to be effective 1/1/2012.

Filed Date: 12/15/11.

Accession Number: 20111215-5161.

Comments Due: 5 p.m. ET 12/27/11.

Docket Numbers: RP12-242-000.

Applicants: USG Pipeline Company, LLC.

Description: Name Change Filing to be effective 12/12/2011.

Filed Date: 12/15/11.

Accession Number: 20111215-5169.

Comments Due: 5 p.m. ET 12/27/11.

Docket Numbers: RP12-243-000.

Applicants: Young Gas Storage Company, Ltd.

Description: ATC Change effective 12/1/11 to be effective 12/1/2011.

Filed Date: 12/15/11.

Accession Number: 20111215-5199.

Comments Due: 5 p.m. ET 12/27/11.

Docket Numbers: RP12-244-000.

Applicants: Colorado Interstate Gas Company LLC.

Description: ATC Change effective 12/1/11 to be effective 12/1/2011.

Filed Date: 12/15/11.

Accession Number: 20111215-5261.

Comments Due: 5 p.m. ET 12/27/11.

Docket Numbers: RP12-245-000.

Applicants: TransColorado Gas Transmission Company LLC.

Description: Reservation Charge Credits to be effective 1/16/2012.

Filed Date: 12/16/11.

Accession Number: 20111216-5063.

Comments Due: 5 p.m. ET 12/28/11.

Docket Numbers: RP12-246-000.

Applicants: Kinder Morgan Interstate Gas Trans. LLC.

Description: Annual Reconciliation filing of Kinder Morgan Interstate Gas Transmission LLC.

Filed Date: 12/16/11.

Accession Number: 20111216-5150.

Comments Due: 5 p.m. ET 12/28/11.

Docket Numbers: RP12-247-000.

Applicants: Gulf South Pipeline Company, LP.

Description: SSO Update to be effective 1/16/2012.

Filed Date: 12/16/11.

Accession Number: 20111216-5160.

Comments Due: 5 p.m. ET 12/28/11.

Docket Numbers: RP12-248-000.

Applicants: Millennium Pipeline Company, LLC.

Description: Negotiated Rate Service Agreement Filing to be effective 1/1/2012.

Filed Date: 12/16/11.

Accession Number: 20111216-5173.

Comments Due: 5 p.m. ET 12/28/11.

Docket Numbers: RP12-249-000.

Applicants: Millennium Pipeline Company, LLC.

Description: System Map to be effective 1/16/2012.

Filed Date: 12/16/11.

Accession Number: 20111216-5179.

Comments Due: 5 p.m. ET 12/28/11.

Docket Numbers: RP12-250-000.

Applicants: Kern River Gas Transmission Company.

Description: 2012 Credit to be effective 1/16/2012.

Filed Date: 12/16/11.

Accession Number: 20111216-5190.

Comments Due: 5 p.m. ET 12/28/11.

Any person desiring to intervene or protest in any of the above proceedings must file in accordance with Rules 211 and 214 of the Commission's Regulations (18 CFR 385.211 and 385.214) on or before 5 p.m. Eastern time on the specified comment date. Protests may be considered, but intervention is necessary to become a party to the proceeding.

The filings are accessible in the Commission's eLibrary system by clicking on the links or querying the docket number.

eFiling is encouraged. More detailed information relating to filing requirements, interventions, protests, and service can be found at: http://www.ferc.gov/docs-filing/efiling/filing-req.pdf. For other information, call (866) 208-3676 (toll free). For TTY, call (202) 502-8659.

Dated: December 19, 2011.
Nathaniel J. Davis, Sr.,
Deputy Secretary.

[FR Doc. 2011-32981 Filed 12-23-11; 8:45 am]

BILLING CODE 6717-01-P